DEPARTMENT OF THE INTERIOR

Fish and Wildlife Service

50 CFR Part 17

RIN 1018-AT54

Endangered and Threatened Wildlife and Plants; Correction of Special Rule to Control the Trade of Threatened Beluga Sturgeon (Huso huso)

AGENCY: Fish and Wildlife Service, Interior.

ACTION: Final rule; correction.

SUMMARY: We, the U.S. Fish and Wildlife Service (Service), are correcting a special rule promulgated under Section 4(d) of the Endangered Species Act of 1973, as amended (Act), to exempt the import and export of, and foreign and interstate commerce in, certain products of beluga sturgeon (Huso huso) from the permit requirements under 50 CFR 17.32. These corrections are not substantive.

DATES: This rule is effective March 4, 2005.

FOR FURTHER INFORMATION CONTACT: Robert R. Gabel, Chief, Division of Scientific Authority, at the above address (phone: 703-358-1708). For permitting information, contact: Tim Van Norman, Chief, Branch of Permits—International, at the address above (phone: 703-358-2104, or toll free, 1-800-358-2104).

SUPPLEMENTARY INFORMATION: On March 4, 2005, we, the U.S. Fish and Wildlife Service (Service), promulgated a special rule (70 FR 10493) under Section 4(d) of the Endangered Species Act of 1973, as amended (Act), to exempt the import and export of, and foreign and interstate commerce in, certain products of beluga sturgeon (Huso huso) from the permit requirements in 50 CFR 17.32 regarding the importation of threatened species. Errors were introduced into the regulatory text of the rule. We correct these errors now for the purpose of reinstating clarity. None of these changes are substantive.

List of Subjects in 50 CFR Part 17

Endangered and threatened species, Export, Import, Reporting and recordkeeping requirements, Transportation.

Regulation Correction

For reasons set forth in the preamble, we correct 50 CFR 17.44 by making the following correcting amendments:

PART 17—[CORRECTED]

1. The authority citation for part 17 continues to read as follows:

Authority: 16 U.S.C. 1361-1407; 16 U.S.C. 1531-1544; 16 U.S.C. 4201-4245; Pub. L. 99-625, 100 Stat. 3500; unless otherwise noted.

2. Amend § 17.44 as follows:

a. In paragraph (y)(2)(i) in the first sentence, remove the word “paragraph” and add the word “paragraphs” in its place.

b. In paragraph (y)(2)(ii) in the first sentence, remove the word “paragraphs” and add the word “paragraph” in its place and add a comma after the word “re-export” the second time it appears.

c. In paragraph (y)(3)(i) in the sentence following the introductory sentence, add the words “of this section” before the closing parenthesis at the end of the sentence.

d. In paragraph (y)(3)(i)(A) at the beginning of the first sentence, remove the word “Any” and add the words “Except for caviar contained in cosmetics, any” in its place.

e. In paragraph (y)(3)(ii)(B)(2) remove the words “through (E)” and add the words “and (D)” in its place.

f. In paragraph (y)(4)(i) in the heading, italicize the words “Basin-wide”.

g. In paragraph (y)(4)(ii) in the second sentence, remove the words “basin-wide management plans” and add the words “national laws and regulations” in their place.

h. In paragraph (y)(4)(iii) in the second sentence, remove the words “Service (see FOR FURTHER INFORMATION CONTACT above)” and add the words “Division of Management Authority, Branch of Permits'International, U.S. Fish and Wildlife Service, 4401 North Fairfax Drive, Room 700, Arlington, VA 22203” in their place.

i. In paragraph (y)(5) introductory text, revise the last sentence as set forth below.

j. In paragraph (y)(5)(iv) in the first sentence, remove the word “this” before the word “paragraph” and add the words “(y)(5) of this section” after the word “paragraph”, and in the last sentence, remove the words “paragraphs (y)(6) and” and add the word “paragraph” in their place.

k. In paragraph (y)(6) in the sentence following the introductory sentence, remove the words “through (iii)” and add the words “or (ii)” in their place.

l. In paragraph (y)(7) in the first sentence following the introductory sentence, remove the words “and paragraph (y)(5) for aquaculture facilities)” and add the words “and, for aquaculture facilities, as per paragraph (y)(5)(iv) of this section)” in their place.

m. In paragraph (y)(7)(i), remove the word “may” and add the word “will” in its place.

n. In paragraph (y)(7)(i)(A), remove the word “above” and add the words “in paragraph (y)(4) of this section” in its place.

o. In paragraph (y)(7)(i)(J), revise the text as set forth below.

§ 17.44 Special rules—fishes.

* * * * *

(y) * * *

(5) * * * Facilities outside the littoral states wishing to obtain such exemptions must submit a written request to the Division of Management Authority, Branch of Permits—International, U.S. Fish and Wildlife Service, 4401 N. Fairfax Drive, Room 700, Arlington, VA 22203, and provide to the Service's Division of Scientific Authority, in Room 750 at the same address, information that shows, at a minimum, all of the following:

* * * * *

(7) * * *

(i) * * *

(J) An aquaculture facility outside the littoral states has been issued a programmatic exemption from threatened species permits under paragraph (y)(5) of this section, but is not abiding by the provisions of paragraphs (y)(5)(i) through (iii) of this section, or, based on the biennial reports required under paragraph (y)(5) of this section, has not actively cooperated with one or more littoral states in a meaningful way to support beluga sturgeon conservation.

* * * * *

Dated: August 4, 2005.
David P. Smith,
Acting Assistant Secretary for Fish and Wildlife and Parks.

[FR Doc. 05-16569 Filed 8-19-05; 8:45 am]

BILLING CODE 4310-55-P